ARCHITECTURAL AND TRANSPORTATION BARRIERS COMPLIANCE BOARD

[Docket No. ATBCB-2020-0003]

Proposed Renewal of Information Collection; Online Architectural Barriers Act (ABA) Complaint Form

AGENCY: Architectural and Transportation Barriers Compliance Board.

ACTION: Notice and request for comments.

SUMMARY: In accordance with the Paperwork Reduction Act, the Architectural and Transportation Barriers Compliance Board (Access Board) invites comment on the proposed extension of its existing information collection titled, “Online Architectural Barriers Act (ABA) Complaint Form.” (OMB Control No. 3014-0012). The information collection is scheduled to expire on August 31, 2020, and we propose to continue using the instrument for an additional three years.

DATES: Submit comments by June 2, 2020.

ADDRESSES: You may submit comments, by any of the following methods:

• Federal eRulemaking Portal http://www.regulations.gov. Follow the directions for sending comments.

• Email: damiani@access-board.gov. Include ATBCB-2020-0003 in the subject line of the message.

• Fax: 202-272-0081.

• Mail or Hand Delivery/Courier: Mario Damiani, Office of General Counsel, U.S. Access Board, 1331 F Street NW, Suite 1000, Washington, DC 20004-1111.

Instructions: All submissions received must include the agency name and docket number for this Notice (identified by ATBCB-2020-0003). All comments received, including any personal information provided, will be posted without change to http://www.regulations.gov. For this reason, please do not include information of a confidential nature in your comments, such as sensitive personal or proprietary information.

FOR FURTHER INFORMATION CONTACT: Mario Damiani, Office of General Counsel, U.S. Access Board, 1331 F Street NW, Suite 1000, Washington, DC 20004-1111. Phone: 202-272-0050 (voice); 202-272-0064 (TTY). Email: damiani@access-board.gov.

SUPPLEMENTARY INFORMATION: Under the Paperwork Reduction Act of 1995 (PRA) (44 U.S.C. 3501 et seq.), and its implementing regulations (5 CFR part 1320), Federal agencies must obtain approval from the Office of Management and Budget (OMB) for each collection of information they conduct or sponsor. “Collection of information,” within the meaning of the PRA, includes agency requests that pose identical questions to, or impose reporting or recording keeping obligations on ten or more persons regardless of whether response to such request is mandatory or voluntary. See 5 CFR 1320.3(c); see also 44 U.S.C. 3502(3). Before seeking clearance from OMB, agencies are generally required, among other things, to publish a 60-day notice in the Federal Register concerning any proposed information collection—including extension of a previously-approved collection—and provide an opportunity for comment. See 44 U.S.C. 3506(c)(2)(A); 5 CFR 1320.8(d)(1).

To comply with this requirement, the Access Board is publishing this 60-day notice for the proposed renewal of this information collection. OMB's approval of the current version of the Access Board's Online Architectural Barriers Act (ABA) Complaint Form is set expire in August 2020. See 81 FR 85,926 (Nov. 29, 2016) (30-day notice); see also 81 FR 48,739 (July 26, 2016) (60-day notice).

OMB Control Number: 3014-0012.

Title: Online Architectural Barriers Act (ABA) Complaint Form.

Type of Review: Extension of a currently approved information collection.

Abstract: The Access Board is statutorily charged with enforcing the ABA through, among other things, investigation of complaints from members of the public concerning the accessibility of covered buildings or facilities, namely—those owned or leased by the Federal government, as well as those constructed or altered using Federal funds from grants or loans. See 29 U.S.C. 792(b)(1), (e). At present, over 90% of individuals elect to submit their ABA complaints using the Online ABA Complaint Form; the remainder are submitted in writing, without the need to use a hard-copy complaint form, by email, regular mail, or fax.

By this notice, the Access Board is proposing to continue using essentially the same Online ABA Complaint Form for another three years. We propose to make formatting-type changes only that will update the “look and feel” of the online form; we do not anticipate making any material, substantive revisions.

In sum, the Online ABA Complaint Form seeks information needed by the Access Board to investigate complaints and, if desired, contact the complainant. Mandatory fields are: Name and location (by city and state) of the building/facility at issue and description of accessibility barrier(s). Optional fields include the building/facility address and the complainant's name; and contact information. (Where provided, a complainant's identity and other personal information may not be disclosed outside the agency without his or her written permission.) Individuals may also upload electronic attachments (e.g., pictures, drawings) relevant to their complaint, if desired. Once a complaint is submitted, the system automatically provides confirmation of successful submission, a complaint number, and the option to print a copy of the submitted complaint. Complainants who elect to provide an email address as part of their contact information also receive an automatically generated confirmation email.

Description of Respondents: Individual members of the public.

Estimated Total Annual Number of Responses: Approximately 185 individuals submit complaints using the Online ABA Complaint Form each year.

Estimated Frequency of Response: Occasional. Complainants submit one complaint for each building or facility at which they noted accessibility barriers, regardless of the number of barriers encountered.

Estimated Time Burden per Response: On average, about 30 minutes per online complaint; the time burden may vary depending on the number of accessibility barriers identified in a complaint. There is no financial burden to complainants.

Estimated Total Annual Burden Hours: Approximately 93 hours.

Request for Comment: Comments are invited on: (a) Whether the proposed collection of information is necessary for the Access Board's performance; (b) the accuracy of the estimated burden; (c) ways for the Access Board to enhance the quality, utility, and clarity of the information collection; and (d) ways that the burden could be minimized without reducing the quality of the collected information. Comments will be summarized and included in our request for OMB's approval of renewal of our existing generic clearance.

David M. Capozzi,
Executive Director.

[FR Doc. 2020-06952 Filed 4-2-20; 8:45 am]

BILLING CODE 8150-01-P